DEPARTMENT OF THE TREASURY

Financial Literacy and Education Commission's National Strategy Information Gathering Public Meetings

AGENCY: Departmental Offices, Treasury.

ACTION: Notice of various public meetings.

SUMMARY: This notice announces six information-gathering public meetings to be held at various locations on behalf of a financial education national strategy working group of the Financial Literacy and Education Commission (Commission), established by the Financial Literacy and Education Improvement Act (Title V of the Fair and Accurate Credit Transactions Act of 2003).

DATES: See Supplementary Information section for meeting dates.

ADDRESSES: See Supplementary Information section for meeting addresses.

SUPPLEMENTARY INFORMATION: First Meeting Dates: The first Commission public information-gathering meeting for the national strategy on financial education will be held on Friday, February 25, 2005. There will be a two-hour meeting session, which will begin at 9:30 a.m. and end at 11:30 a.m. (e.s.t.).

Addresses: The first Commission public information-gathering meeting for the national strategy on financial education will be held in Room 1C-30 at the Securities and Exchange Commission, located at 450 Fifth Street, NW., Washington, DC. Limited seating is available to the public on a first-come, first-serve basis. Participation in the discussion at each meeting will be limited to the Commission's national strategy working group members, their staffs, and representatives of those that responded to the Commission's request for public comment on the national strategy. For entry into the building, attendees will be required to provide a valid picture I.D. and will be escorted into the meeting room.

For Further Information Contact: For additional information, contact John Nester at the Securities and Exchange Commission by e-mail at: nesterj@sec.gov or by telephone at: (202) 942-0032.

Second Meeting Dates: The second Commission public information-gathering meeting for the national strategy on financial education will be held on Friday, March 4, 2005. Participants at this meeting will be from local, State and Federal government. There will be a two-hour meeting session, which will begin at 8:30 a.m. and end at 10:30 a.m. (e.s.t.).

Addresses: The second Commission public information-gathering meeting for the national strategy on financial education will be held in the 7th Floor Executive Dining Room at the Federal Deposit Insurance Corporation, located at 550 17th Street, NW., Washington, DC. Limited seating is available to the public on a first-come, first-serve basis. Participation in the discussion at each meeting will be limited to the Commission's national strategy working group members, their staffs, and representatives of those that responded to the Commission's request for public comment on the national strategy. For entry into the building, attendees will be required to provide a valid picture I.D. and will be escorted into the meeting room.

For Further Information Contact: For additional information, contact Donna Soto at the Federal Deposit Insurance Corporation by e-mail at: dsoto@fdic.gov or by telephone at: (703) 516-1032.

Third Meeting Dates: The third Commission public information-gathering meeting for the national strategy on financial education will be held on Monday, March 7, 2005. Participants at this meeting will be from the academic/educational community. There will be a two-hour meeting session, which will begin at 10:30 a.m. and end at 12:30 p.m. (e.s.t.). If necessary, a second two-hour meeting session will follow beginning at 1 p.m. and ending at 3 p.m. (e.s.t.).

Addresses: The third Commission public information-gathering meeting for the national strategy on financial education will be held at the U.S. Mint, located at 801 9th Street, NW., Washington, DC. Limited seating is available to the public on a first-come, first-serve basis. Participation in the discussion at each meeting will be limited to the Commission's national strategy working group members, their staffs, and representatives of those that responded to the Commission's request for public comment on the national strategy. For entry into the building, attendees will be required to provide a valid picture I.D. and will be escorted into the meeting room.

For Further Information Contact: For additional information, contact Madelyn Simmons Marchessault at the United States Mint by telephone at (202) 354-7200.

Fourth Meeting Dates: The fourth Commission public information-gathering meeting for the national strategy on financial education will be held on Friday, March 11, 2005. Participants at this meeting will be from non-profit organizations. There will be a two-hour meeting session, which will begin at 1:30 p.m. and end at 3:30 p.m. (e.s.t.).

Addresses: The fourth Commission public information-gathering meeting for the national strategy on financial education will be held at the U.S. Office of Personnel Management, located at 1900 E Street, NW., Washington, DC. Limited seating is available to the public on a first-come, first-serve basis. Participation in the discussion at each meeting will be limited to the Commission's national strategy working group members, their staffs, and representatives of those that responded to the Commission's request for public comment on the national strategy. For entry into the building, attendees will be required to provide a valid picture I.D.

For Further Information Contact: For additional information, contact Ray Kirk at the Office of Personnel Management by e-mail at: rjkirk@opm.gov or by telephone at: (202) 606-0788.

Fifth Meeting Dates: The fifth Commission public information-gathering meeting for the national strategy on financial education will be held on Monday, March 14, 2005. Participants at this meeting will be from the lending community. There will be a two-hour meeting session, which will begin at 9 a.m. and end at 11 a.m. (e.s.t.). If necessary, a second two-hour meeting session will follow beginning at 1:30 p.m. and ending at 3:30 p.m. (e.s.t.).

Addresses: The fifth Commission public information-gathering meeting for the national strategy on financial education will be held in Room HC-8 at the U.S. Capitol's Cannon House Office Building, Washington, DC. Limited seating is available to the public on a first-come, first-serve basis. Participation in the discussion at each meeting will be limited to the Commission's national strategy working group members, their staffs, and representatives of those that responded to the Commission's request for public comment on the national strategy. For entry into the building, attendees will be required to provide a valid picture I.D.

For Further Information Contact: For additional information, contact Michael Schutt at the Treasury's Office of Financial Education by e-mail at: michael.schutt@do.treas.gov or by telephone at: (202) 622-1484.

Sixth Meeting Date: The sixth Commission public information-gathering meeting for the national strategy on financial education will be held on Thursday, March 17, 2005. There will be a two-hour meeting session, which will begin at 10:30 a.m. and end at 12:30 p.m. e.s.t. If necessary, a second two-hour meeting session will follow beginning at 1 p.m. and ending at 3 p.m. e.s.t.

Addresses: The sixth Commission public information-gathering meeting for the national strategy on financial education will be held in Conference Room 5A at the U.S. Department of Health and Human Services' Administration for Children and Families, Office of Community Services, located at 370 L'Enfant Promenade, SW., Washington, DC. Limited seating is available to the public on a first-come, first-serve basis. Participation in the discussion at each meeting will be limited to the Commission's national strategy working group members, their staffs, and representatives of those that responded to the Commission's request for public comment on the national strategy. Attendees will be required to provide the following information at least twenty-four hours prior to the meeting: Visitor name, visitor's organization, and date and time of visit, to Marilyn Henry at: mhenry@acf.hhs.gov. For entry into the building, attendees will be required to provide a valid picture I.D.

For Further Information Contact: For additional information, contact Marilyn Henry at Health and Human Services by e-mail at: mhenry@acf.hhs.gov or by telephone at: (202) 401-5625.

Background

The Financial Literacy and Education Improvement Act, which is Title V of the Fair and Accurate Credit Transactions Act of 2003 (the “FACT Act”) (Pub. L. 108-159), established the Financial Literacy and Education Commission (the “Commission”) to improve financial literacy and education of persons in the United States. The Commission is composed of the Secretary of the Treasury and the head of the Office of the Comptroller of the Currency; the Office of Thrift Supervision; the Federal Reserve; the Federal Deposit Insurance Corporation; the National Credit Union Administration; the Securities and Exchange Commission; the Departments of Education, Agriculture, Defense, Health and Human Services, Housing and Urban Development, Labor, and Veterans Affairs; the Federal Trade Commission; the General Services Administration; the Small Business Administration; the Social Security Administration; the Commodity Futures Trading Commission; and the Office of Personnel Management. The FACT Act was enacted on December 4, 2003.

The meetings listed above will be open to the public. Seating is available on a first-come basis. Participation in the discussion at each meeting will be limited to the Commission's national strategy working group members, their staffs, and representatives of those that responded to the Commission's request for public comment on the national strategy.

Dated: February 22, 2005.
Dan Iannicola, Jr.,
Deputy Assistant Secretary for Financial Education.

[FR Doc. 05-3821 Filed 2-24-05; 8:45 am]

BILLING CODE 4810-25-P